DEPARTMENT OF THE INTERIOR

National Park Service

[NPS-WASO-NAGPRA-NPS0038563; PPWOCRADN0-PCU00RP14.R50000]

Notice of Intended Disposition: U.S. Department of the Interior, Bureau of Land Management, Arizona State Office, Tucson Field Office, Tucson, AZ

AGENCY: National Park Service, Interior.

ACTION: Notice of Intended Disposition.

SUMMARY: In accordance with the Native American Graves Protection and Repatriation Act (NAGPRA), the U.S. Department of the Interior, Bureau of Land Management, Arizona State Office, Tucson Field Office, intends to carry out the disposition of human remains removed from Federal or Tribal lands to the lineal descendants or Indian Tribe with priority for disposition in this notice.

DATES: Disposition of the human remains in this notice may occur on or after September 23, 2024. If no claim for disposition is received by May 15, 2025, the human remains in this notice will become unclaimed human remains or cultural items.

ADDRESSES: Colleen J. Dingman, Field Manager, Bureau of Land Management, Tucson Field Office, 3201 E Universal Way, Tucson, AZ 85756, telephone (520) 258-7200, email cjdingman@blm.gov.

SUPPLEMENTARY INFORMATION: This notice is published as part of the National Park Service's administrative responsibilities under NAGPRA. The determinations in this notice are the sole responsibility of the Bureau of Land Management, Arizona State Office, Tucson Field Office, and additional information on the human remains or cultural items in this notice, including the results of consultation, can be found in the related records. The National Park Service is not responsible for the identifications in this notice.

Abstract of Information Available

Based on the information available, human remains representing at least one individual have been reasonably identified. No associated funerary objects are present. The discovery reported to the Tucson Field Office on January 30, 2023, consisted of approximately 50+/−cremated bone fragments averaging two centimeters in size. These remains were discovered in Cochise County, AZ.

Determinations

The Bureau of Land Management, Arizona State Office, Tucson Field Office, has determined that:

• The human remains described in this notice represent the physical remains of one individual of Native American ancestry.

• The Tohono O'odham Nation of Arizona has priority for disposition of the human remains described in this notice.

Claims for Disposition

Written claims for disposition of the human remains in this notice must be sent to the appropriate official identified in this notice under ADDRESSES. If no claim for disposition is received by August 25, 2025, the human remains in this notice will become unclaimed human remains. Claims for disposition may be submitted by:

1. Any lineal descendant or Indian Tribe identified in this notice.

2. Any lineal descendant or Indian Tribe not identified in this notice who shows, by a preponderance of the evidence, that they have priority for disposition.

Disposition of the human remains in this notice may occur on or after September 23, 2024. If competing claims for disposition are received, the Bureau of Land Management, Arizona State Office, Tucson Field Office, must determine the most appropriate claimant prior to disposition. Requests for joint disposition of the human remains are considered a single request and not competing requests. The Bureau of Land Management, Arizona State Office, Tucson Field Office, is responsible for sending a copy of this notice to the lineal descendants and Indian Tribes identified in this notice and to any other consulting parties.

Authority: Native American Graves Protection and Repatriation Act, 25 U.S.C. 3002, and the implementing regulations, 43 CFR 10.7.

Dated: August 15, 2024.
Mariah Soriano,
Acting Manager, National NAGPRA Program.

[FR Doc. 2024-18948 Filed 8-22-24; 8:45 am]

BILLING CODE 4312-52-P